DEPARTMENT OF HEALTH AND HUMAN SERVICES

Centers for Disease Control and Prevention

[30Day-25-1257]

Agency Forms Undergoing Paperwork Reduction Act Review

In accordance with the Paperwork Reduction Act of 1995, the Centers for Disease Control and Prevention (CDC) has submitted the information collection request titled “Assessment of Outcomes Associated with the Preventive Health and Health Services Block Grant” to the Office of Management and Budget (OMB) for review and approval. CDC previously published a “Proposed Data Collection Submitted for Public Comment and Recommendations” notice on December 6, 2024, to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Assessment of Outcomes Associated with the Preventive Health and Health Services Block Grant (OMB No. 0920-1257, Exp. 06/30/2025)—Revision—National Center for STLT Public Health Infrastructure and Workforce (PHIC), Centers for Disease Control and Prevention (CDC).

Background and Brief Description

The PHHS Block Grant, administered by CDC, provides funding to 61 jurisdictions: all 50 states, the District of Columbia, two American Indian tribes, five U.S. territories, and three freely associated states. PHHS Block Grant recipients use this funding to address the unique public health needs of their jurisdictions in innovative and locally defined ways. In 2017, 2019, and 2022 CDC collected information from PHHS recipients to assess select cross-cutting outputs and outcomes of the PHHS Block Grant.

In this Revision, CDC requests OMB approval to continue information collection over a three-year period. Assessment surveys will be administered in 2025 and 2027 based on the web-based survey instrument launched in 2022. No questions have been added or deleted; however, prompts were added to the Q5 and Q8 series to reduce errors. Prompts inform respondents that the number of items should equal the value from a previous question in which they input total values. A piped-text entry based on the value input is used to provide the actual total provided by the respondent.

The legislative authority for the PHHS Block Grant aligns recipient activities to HHS Healthy People 2030 objectives, and additional changes are anticipated to maintain this alignment and ensure compliance with Executive Orders. CDC will submit Change Requests to OMB as guidance becomes available. Findings of the PHHS Block Grant Assessment will be used to: (1) describe the outcomes and achievements of recipients' public health efforts and identify how the use of PHHS Block Grant funds contributed to those results; and (2) help assess how the grant advances work of the public health system and provide evidence to support future budgetary requests.

OMB approval is requested for three years. Participation in the assessment survey is voluntary. CDC plans to administer the assessment survey in 2025 and 2027 to the 61 entities that receive PHHS Block Grant funding. There is no change to the estimated burden per response (45 minutes), however, there is a reduction in total estimated annualized burden. Previous submissions were incorrectly annualized and overestimated total burden. The current Revision request corrects these estimates. The annualized number of respondents is 41 and the total estimated annualized burden is 31 hours.

Estimated Annualized Burden Hours
Type of respondents | Form name | Number of respondents | Number of responses per respondent | Average burden per response (in hours)
PHHS Block Grant Coordinator or Designee | PHHS Block Grant Assessment | 41 | 1 | 45/60

Jeffrey M. Zirger,
Lead, Information Collection Review Office, Office of Public Health Ethics and Regulations, Office of Science, Centers for Disease Control and Prevention.

[FR Doc. 2025-10517 Filed 6-10-25; 8:45 am]

BILLING CODE 4163-18-P